DEPARTMENT OF THE INTERIOR

Bureau of Land Management

[OR-936-06-1430-FM; GP6-0023]

Termination of Classification and Order Providing for Opening of Land, OR 02752

AGENCY: Bureau of Land Management (BLM), Interior.

ACTION: Notice.

SUMMARY: This notice terminates the existing classification for 80.00 acres of public land that was classified as suitable for disposal through exchange under section 8 of the Taylor Grazing Act (43 U.S.C. 315g) and opens the land to operation of the public land laws and location and entry under the mining laws, subject to the existing laws, rules, and regulations applicable to public lands administered by the BLM. The land has been and will remain open to mineral leasing.

EFFECTIVE DATE: February 21, 2006.

FOR FURTHER INFORMATION CONTACT: Phyllis Gregory, BLM, Oregon/Washington State Office, P.O. Box 2965, Portland, OR 97208, 503-808-6188.

SUPPLEMENTARY INFORMATION: By notice published in the Federal Register (34 FR 1194) on January 24, 1969, 2,632.83 acres of public land under the jurisdiction of the BLM were classified as suitable for exchange under section 8 of the Taylor Grazing Act (43 U.S.C. 315g). On September 19, 1977, an Order Providing for Opening of Public Lands was published in the Federal Register (42 FR 46958) opening 2,360 acres of reconveyed land to entry. However, 80 acres listed in the original Notice of Classification were not included in the exchange and were omitted in the opening order of September 19, 1977. Consequently, these 80 acres are still classified for disposal.

Notice: Pursuant to 43 CFR 2091.7-1 (b) (3), the classification is terminated upon publication of this notice in the Federal Register for the subject land and is described as follows:

Willamette Meridian, Oregon

T. 20 S., R. 44 E.,

Sec. 2, SW¼NE¼, NW¼SE¼.

The area described contains 80.00 acres in Malheur County, Oregon.

Order: At 8:30 a.m. on February 21, 2006 the land will be opened to operation of the public land laws generally, subject to valid existing rights, the provisions of existing withdrawals, and the requirements of applicable law. All valid existing applications received at or prior to 8:30 a.m., on March 23, 2006 will be considered as simultaneously filed at that time. Those received thereafter will be considered in the order of filing. At 8:30 a.m. on February 21, 2006 the land will be opened to location and entry under the United States mining laws. Appropriation under the mining laws prior to the date and time of restoration and opening is unauthorized. Any such attempted appropriation, including attempted adverse possession under 30 U.S.C. 38, shall vest no rights against the United States. Acts required to establish a location and to initiate a right of possession are governed by State law where not in conflict with Federal law. The BLM will not intervene in disputes between rival locators over possessory rights since Congress has provided for such determination in local courts.

Authority: 43 CFR 2091.1(b).

Dated: February 1, 2006.
Robert D. DeViney, Jr.,
Chief, Branch of Realty and Records Services.

[FR Doc. E6-2374 Filed 2-17-06; 8:45 am]

BILLING CODE 4310-33-P